DEPARTMENT OF JUSTICE

Notice of Lodging of Partial Consent Decrees in Comprehensive Environmental Response, Compensation, and Liability Act Cost Recovery Action

In accordance with Departmental Policy, 28 CFR 50.7, notice is hereby given that two Partial Consent Decrees in United States v. American Scrap Company et al., Civil Action No. 1:99-CV-2047, were lodged with the United States District Court for the Middle District of Pennsylvania on April 22, 2002.

One of the two Partial Consent Decrees resolves the United States' claims against Larami Metal Company, Inc. under sections 106 and 107(a) of the Comprehensive Environmental Response, Compensation, and Liability Act (“CERCLA”), 42 U.S.C. § 9607(a), relating to the Jack's Creek/Sitkin Smelting Superfund Site in Mifflin County, Pennsylvania. The Partial Consent Decree requires Larami Metal to pay $175,000.00 to the United States.

The second Partial Consent Decree resolves the United States' claims against Hudson Scrap Metal, Inc., United Alloys & Steel Corporation, United Scrap, Inc., and Urps Metal Company under Sections 106 and 107(a) of CERCLA, 42 U.S.C. 9607(a), relating to the Jack's Creek/Sitkin Smelting Superfund Site. The Partial Consent Decree requires a payment by each of these defendants—Hudson Scrap ($79,578.18), United Alloys ($80,000.00), United Scrap ($25,000) and Urps Metals ($5,000.00)—consistent with each respective party's ability to pay.

The Department of Justice will accept written comments on the proposed Partial Consent Decrees for thirty (30) days from the date of publication of this notice. Please address comments to the Assistant Attorney General, Environment and Natural Resources Division, Department of Justice, P.O. Box 7611, Ben Franklin Station, Washington, DC 20044-7611 and refer to United States v. American Scrap Company, DOJ Ref. No. 90-11-2-911/1.

Copies of the proposed Partial Consent Decrees may be examined at the office of the United States Attorney, Middle District of Pennsylvania, 228 Walnut Street, Harrisburg, PA 17108, and at EPA Region III, 1650 Arch Street, Philadelphia, PA 19103-2029. Copies of the proposed Partial Consent Decrees may also be obtained by mail from the U.S. Department of Justice, Consent Decree Library, P.O. Box 7611, Washington, DC 20044-7611, or by faxing a request to Tonia Fleetwood, facsimile no. (202) 514-0097, phone confirmation no. (202) 514-1547. When requesting copies, please enclose a check to cover the twenty-five cents per page reproduction costs payable to the “U.S. Treasury” in the amount of $5.00 for the Larami Metal decree and/or $8.50 for the Hudson Scrap decree, and reference United States v. American Scrap Company, DOJ Ref. No. 90-11-2-911/1.

Robert D. Brook,
Assistant Chief, Environmental Enforcement Section, Environment and Natural Resources Division, U.S. Department of Justice.

[FR Doc. 02-10821 Filed 5-1-02; 8:45 am]

BILLING CODE 4410-15-M